DEPARTMENT OF STATE

[Public Notice 6518]

Notice of Receipt of Application for a Presidential Permit To Operate and Maintain Pipeline Facilities on the Border of the United States

Notice is hereby given that the Department of State has received an application from Dome Petroleum Corp., a North Dakota corporation (“Dome Petroleum”), with its principal address at 4101 Winfield Road, Warrenville, Illinois 60555, and Kinder Morgan Cochin, LLC, (“Kinder Morgan”), a Delaware limited liability company with its principal office at 500 Dallas Street Suite 1000, Houston, TX 77002, for Presidential permits, pursuant to Executive Order 13337 of April 30, 2004, to operate and maintain two cross-border pipelines they recently acquired from Dome Pipeline Corporation (“Dome Pipeline”) to transport petroleum, petroleum products, and other liquid hydrocarbons between the United States and Canada, crossing the international boundary line underneath the Detroit River between Detroit, Michigan and Windsor, Canada.

A Permit for these pipelines was originally issued to American Brine, Inc. on October 23, 1957. The permit granted American Brine the authority to construct, connect, operate, and maintain two pipelines (collectively, the “Pipelines”) to carry liquid brine between the United States and Canada, crossing underneath the Detroit River between Detroit, Michigan and Windsor, Canada. This permit was superseded by a new permit issued to American Brine on March 13, 1969. Following the sale of these pipelines to Dome Pipeline in 1972, this superseding permit was amended to reflect Dome Pipeline as the new owner, and to permit the pipelines to transport petroleum, petroleum products and other liquid hydrocarbons.

On March 15, 2007 Dome Petroleum sold Dome Pipeline, its former subsidiary, to Kinder Morgan Energy Partners LP, a master limited partnership with its principal office in Houston, Texas. Following the sale, Dome Pipeline was merged into Kinder Morgan Cochin (“Kinder Morgan”), a Delaware limited liability company and subsidiary of Kinder Morgan Energy Partners with its principal office in Houston, Texas.

Under the terms of the all-stock sale, ownership of the Pipelines was to be transferred to Dome Petroleum and Kinder Morgan. Dome Petroleum shall be the sole owner of the pipeline common referred to as the Eastern Delivery System South Pipeline System (“EDS Pipeline”), located to the east-southeast of the other pipeline. Kinder Morgan shall be the sole owner of the pipeline commonly referred to as the Cochin Pipeline, located to the west-northwest of the EDS Pipeline. Each party shall be solely responsible for the maintenance of their pipeline and any liability associated with that pipeline. All easements, licenses, leases and permits associated with the Pipelines, except for any Presidential permits issued by the Department, and all real property formerly owned in fee by Dome Pipeline, shall be owned jointly by Dome Petroleum and Kinder Morgan as tenants in common. If approved by the Department, separate individual Presidential permits will be issued to Dome Petroleum and Kinder Morgan for their respective pipelines.

According to the application, Dome Petroleum and Kinder Morgan have, in written correspondence to the Department of State, committed to abide by the relevant terms and conditions of the permit previously issued by the Department to Dome Pipeline. Further, Dome Petroleum and Kinder Morgan have indicated in that correspondence that there have been no substantial changes in the operations of the EDS and Cochin pipelines from those originally authorized by the Department and further stated that the future operation of the pipelines will remain essentially unchanged from that previously permitted. Therefore, in accordance with 22 CFR 161.7(b)(3) and the Department's Procedures for Issuance of a Presidential Permit Where There Has Been a Transfer of the Underlying Facility, Bridge or Border Crossing for Land Transportation (70 FR 30990, May 31, 2005), the Department of State does not intend to conduct an environmental review of the application unless information is brought to its attention that the transfer potentially would have a significant impact on the quality of the human environment.

As required by E.O. 13337, the Department of State is circulating this application to concerned federal agencies for comment.

DATES: Interested parties are invited to submit, in duplicate, comments relative to this proposal on or before March 12, 2009 to J. Brian Duggan, Office of International Energy and Commodities Policy, Department of State, Washington, DC 20520. The application and related documents that are part of the record to be considered by the Department of State in connection with this application are available for inspection in the Office of International Energy and Commodities Policy during normal business hours.

FOR FURTHER INFORMATION CONTACT: J. Brian Duggan, Office of International Energy and Commodity Policy (EB/ESC/IEC/EPC), Department of State, Washington, DC 20520; or by telephone at (202) 647-1291; or by e-mail at DugganJB@state.gov.

Dated: January 30, 2009.
Stephen J. Gallogly,
Director, Office of International Energy and Commodity Policy, Department of State.

[FR Doc. E9-2769 Filed 2-9-09; 8:45 am]

BILLING CODE 4710-07-P